DEPARTMENT OF ENERGY

Federal Energy Regulatory Commission

[Docket No. ER03-836-004, et al.]

New York Independent System Operator, Inc., et al.; Electric Rate and Corporate Filings

July 8, 2004.

The following filings have been made with the Commission. The filings are listed in ascending order within each docket classification.

1. New York Independent System Operator, Inc.

[Docket No. ER03-836-004]

Take notice that on July 6, 2004 New York Independent System Operator, Inc. (NYISO), in compliance with the Commission's order issued May 7, 2004 in Docket No. ER03-836-001, submitted for filing a letter providing a timetable setting forth a schedule for full implementation of a method for allowing customers to self-supply their own operating reserves.

NYISO states that copies of this filing are being served on all the parties designated on the official services list maintained by the Secretary of the Commission in Docket No ER04-836-001.

Comment Date: July 27, 2004.

2. Reliant Energy Etiwanda, Inc.

[Docket No. ER04-959-001]

Take notice that on July 7, 2004 Reliant Energy Etiwanda, Inc. (Etiwanda), filed a supplement to its June 25, 2004 filing of Rate Schedule FERC No. 2, a Must-Run Service Agreement and a related letter agreement between Etiwanda and the California Independent System Operator Corporation.

Comment Date: July 16, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1588 Filed 7-15-04; 8:45 am]

BILLING CODE 6717-01-P